DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Rural Health Community-Based Grant Program (OMB No. 0915-0319)—[Revision]

On May 20, 2008, OMB approved the agency's request for the collection of data related to OMB No. 0915-0319 and set an expiration date of May 31, 2011. The agency is now proceeding to submit a revised package which will include program specific measures that grantees will have to collect and report on. The revisions will include measures that are aligned with the agency's updated clinical measures. There are currently six rural health grant programs that operate under the authority of Section 301 of the Public Health Service (PHS) Act. These programs include: (1) Rural Health Care Services Outreach Grant Program (Outreach); (2) Rural Health Network Development Grant Program (Network Development); (3) Small Healthcare Provider Quality Grant Program (Quality); (4) Delta States Rural Development Network Grant Program (Delta); (5) Rural Health Network Planning Grant Program (Network Planning) and; (6) Rural Health Workforce Development Grant Program (Workforce). These grants are to provide expanded delivery of health care services in rural areas, for the planning and implementation of integrated health care networks in rural areas, and for the planning and implementation quality improvement and workforce activities.

For these programs, performance measures were drafted to provide data useful to the programs and to enable HRSA to provide aggregate program data required by Congress under the Government Performance and Results Act (GPRA) of 1993. These measures cover the principal topic areas of interest to ORHP, including: (a) Access to care; (b) the underinsured and uninsured; (c) workforce recruitment and retention; (d) sustainability; (e) health information technology; (f) network development; and, (g) health related clinical measures. Several measures will be used for all six programs. All measures will speak to the Office of Rural Health Policy's progress toward meeting its goals.

The annual estimate of burden is as follows:

Grant program | Number of respondents | Frequency of responses | Total responses | Hours per response | Total hour burden
Rural Health Care Services Outreach Grant Program | 111 | 1 | 111 | 3.25 | 360.75
Rural Health Network Development | 49 | 1 | 49 | 2.75 | 134.75
Delta States Rural Development Network Grant Program | 12 | 1 | 12 | 3.125 | 38
Small Health Care Provider Quality Improvement Grant Program | 59 | 1 | 59 | 8 | 472
Network Development Planning Grant Program | 30 | 1 | 30 | 1 | 30
Rural Health Workforce Development Program | 20 | 1 | 20 | 3 | 60
Total | 281 |  | 281 |  | 1096

Written comments and recommendations concerning the proposed information collection should be sent within 30 days of this notice to the desk officer for HRSA, either by e-mail to OIRA_submission@omb.eop.gov or by fax to 202-395-6974. Please direct all correspondence to the “attention of the desk officer for HRSA.”

Dated: March 7, 2011.
Reva Harris,
Acting Director, Division of Policy and Information Coordination.

[FR Doc. 2011-5602 Filed 3-10-11; 8:45 am]

BILLING CODE 4165-15-P